DEPARTMENT OF COMMERCE

International Trade Administration

[A-351-602, A-588-602, A-583-605, A-549-807, A-570-814]

Certain Carbon Steel Butt-Weld Pipe Fittings From Brazil, Japan, Taiwan, Thailand, and the People's Republic of China: Final Results of the Expedited Sunset Reviews of the Antidumping Duty Orders

Correction

In notice document 2011-2884 appearing on pages 7151-7152 in the issue of Wednesday, February 9, 2011, make the following correction:

On page 7152, in the first column, in the signature block, “Dated: January 31, 2010” should read “Dated: January 31, 2011”.

[FR Doc. C1-2011-2884 Filed 2-11-11; 8:45 am]

BILLING CODE 1505-01-D